DEPARTMENT OF ENERGY

Federal Energy Regulatory Commission

Combined Notice of Filings #1

Take notice that the Commission received the following Complaints and Compliance filings in EL Dockets:

Docket Numbers: EL24-18-000.

Applicants: Urban Grid Solar Projects, LLC v. PJM Interconnection, L.L.C.

Description: Complaint of Urban Grid Solar Projects, LLC v. PJM Interconnection, L.L.C.

Filed Date: 11/16/23.

Accession Number: 20231116-5164.

Comment Date: 5 p.m. ET 12/6/23.

Docket Numbers: EL24-20-000; EL24-21-000; ER24-416-000.

Applicants: Northern States Power Company, Northern States Power Company v. Midcontinent Independent System Operator, Inc., Northern States Power Company.

Description: Request for Waiver, Petition for Declaratory Order of Northern States Power Company and Complaint of Northern States Power Company v. Midcontinent Independent System Operator, Inc.

Filed Date: 11/16/23.

Accession Number: 20231116-5197.

Comment Date: 5 p.m. ET 12/6/23.

Take notice that the Commission received the following electric rate filings:

Docket Numbers: ER23-1771-001.

Applicants: ISO New England Inc., New England Power Pool Participants Committee.

Description: Compliance filing: ISO New England Inc. submits tariff filing per 35: Revisions to Schedule 24 to Comply with Order No. 676-J in Docket No. ER23-1771 to be effective 2/1/2024.

Filed Date: 11/17/23.

Accession Number: 20231117-5132.

Comment Date: 5 p.m. ET 12/8/23.

Docket Numbers: ER23-2741-001.

Applicants: Clearwater Energy Resources LLC.

Description: Tariff Amendment: Clearwater Energy Resources LLC's Response to Deficiency Letter to be effective 11/1/2023.

Filed Date: 11/17/23.

Accession Number: 20231117-5159.

Comment Date: 5 p.m. ET 12/8/23.

Docket Numbers: ER24-417-000.

Applicants: Flat Ridge Interconnection LLC.

Description: § 205(d) Rate Filing: Filing of Revised Rate Schedule, Request for Waivers and Expedited Treatment to be effective 12/31/9998.

Filed Date: 11/17/23.

Accession Number: 20231117-5038.

Comment Date: 5 p.m. ET 12/8/23.

Docket Numbers: ER24-418-000.

Applicants: Midcontinent Independent System Operator, Inc.

Description: § 205(d) Rate Filing: 2023-11-17_SA 3920 Duke-IN Solar 1st Rev GIA (J1234 J1235) to be effective 11/7/2023.

Filed Date: 11/17/23.

Accession Number: 20231117-5045.

Comment Date: 5 p.m. ET 12/8/23.

Docket Numbers: ER24-419-000.

Applicants: PacifiCorp.

Description: § 205(d) Rate Filing: OATT Revised Attachment H-1—Attachments 3 and 5 to be effective 1/17/2024.

Filed Date: 11/17/23.

Accession Number: 20231117-5041.

Docket Numbers: ER24-420-000.

Applicants: ISO New England Inc., New England Power Pool Participants Committee.

Description: § 205(d) Rate Filing: ISO New England Inc. submits tariff filing per 35.13(a)(2)(iii: Rev. to Allow Lead Mkt Participants to Reduce Perm. & De-List Bids Prior to FCA to be effective 3/1/2024.

Filed Date: 11/17/23.

Accession Number: 20231117-5042.

Comment Date: 5 p.m. ET 12/8/23..

Docket Numbers: ER24-421-000.

Applicants: JGT2 Energy LLC.

Description: Baseline eTariff Filing: JGT2_Energy_MBRA_App to be effective 12/1/2023.

Filed Date: 11/17/23.

Accession Number: 20231117-5053.

Comment Date: 5 p.m. ET 12/8/23.

Docket Numbers: ER24-422-000.

Applicants: Flat Ridge 2 Wind Energy LLC.

Description: § 205(d) Rate Filing: Certificate of Concurrence, Request for Waiver and Expedited Treatment to be effective 12/31/9998.

Filed Date: 11/17/23.

Accession Number: 20231117-5077.

Comment Date: 5 p.m. ET 12/8/23.

Docket Numbers: ER24-423-000.

Applicants: Tucson Electric Power Company.

Description: § 205(d) Rate Filing: Eleven Mile Solar Center Interconnection Agreement to be effective 1/17/2024.

Filed Date: 11/17/23.

Accession Number: 20231117-5081.

Comment Date: 5 p.m. ET 12/8/23.

Docket Numbers: ER24-424-000.

Applicants: Tucson Electric Power Company.

Description: § 205(d) Rate Filing: Construction Cost Reimbursement Agreement to be effective 11/20/2023.

Filed Date: 11/17/23.

Accession Number: 20231117-5082.

Comment Date: 5 p.m. ET 12/8/23.

Docket Numbers: ER24-425-000.

Applicants: Flat Ridge 4 Wind, LLC.

Description: Initial rate filing: Filing of Common Facilities Agreement to be effective 12/31/9998.

Filed Date: 11/17/23.

Accession Number: 20231117-5085.

Comment Date: 5 p.m. ET 12/8/23.

Docket Numbers: ER24-426-000.

Applicants: Flat Ridge 5 Wind Energy LLC.

Description: Initial rate filing: Filing of Common Facilities Agreement to be effective 12/31/9998.

Filed Date: 11/17/23.

Accession Number: 20231117-5087.

Comment Date: 5 p.m. ET 12/8/23.

Docket Numbers: ER24-427-000.

Applicants: Flat Ridge 3 Wind Energy, LLC.

Description: § 205(d) Rate Filing: Certificate of Concurrence and Request for Expedited Treatment to be effective 12/31/9998.

Filed Date: 11/17/23.

Accession Number: 20231117-5089.

Comment Date: 5 p.m. ET 12/8/23.

Docket Numbers: ER24-428-000.

Applicants: Midcontinent Independent System Operator, Inc.

Description: § 205(d) Rate Filing: 2023-11-17_SA 3425 Entergy Arkansas-West Memphis Solar 2nd Rev GIA (J934) to be effective 11/9/2023.

Filed Date: 11/17/23.

Accession Number: 20231117-5095.

Comment Date: 5 p.m. ET 12/8/23.

Docket Numbers: ER24-429-000.

Applicants: PJM Interconnection, L.L.C.

Description: § 205(d) Rate Filing: Amendment to ISA, Service Agreement No. 6576; Queue No. AD2-062 to be effective 1/17/2024.

Filed Date: 11/17/23.

Accession Number: 20231117-5102.

Comment Date: 5 p.m. ET 12/8/23..

Docket Numbers: ER24-430-000.

Applicants: Alabama Power Company, Georgia Power Company, Mississippi Power Company.

Description: Tariff Amendment: Alabama Power Company submits tariff filing per 35.15: Macon County Solar (Hybrid Project) LGIA Termination Filing to be effective 11/17/2023.

Filed Date: 11/17/23.

Accession Number: 20231117-5112.

Comment Date: 5 p.m. ET 12/8/23.

Docket Numbers: ER24-431-000.

Applicants: Alabama Power Company, Georgia Power Company, Mississippi Power Company.

Description: Tariff Amendment: Alabama Power Company submits tariff filing per 35.15: Midland-Wiregrass Solar (Hybrid Project) LGIA Termination Filing to be effective 11/17/2023.

Filed Date: 11/17/23.

Accession Number: 20231117-5113.

Comment Date: 5 p.m. ET 12/8/23.

Docket Numbers: ER24-432-000.

Applicants: Evergy Kansas Central, Inc.

Description: § 205(d) Rate Filing: Notice of Succession Acquiring Permission Creek to be effective 5/18/2023.

Filed Date: 11/17/23.

Accession Number: 20231117-5125.

Comment Date: 5 p.m. ET 12/8/23.

Docket Numbers: ER24-433-000.

Applicants: Flat Ridge 4 Wind, LLC.

Description: Initial rate filing: Filing of Shared Facilities Agreement to be effective 12/31/9998.

Filed Date: 11/17/23.

Accession Number: 20231117-5130.

Comment Date: 5 p.m. ET 12/8/23.

Docket Numbers: ER24-434-000.

Applicants: Flat Ridge 5 Wind Energy LLC.

Description: Initial rate filing: Filing of Shared Facilities Agreement to be effective 12/31/9998.

Filed Date: 11/17/23.

Accession Number: 20231117-5131.

Comment Date: 5 p.m. ET 12/8/23.

Docket Numbers: ER24-435-000.

Applicants: Black Hills Power, Inc.

Description: § 205(d) Rate Filing: Revisions to Attachment N of JOATT to be effective 1/17/2024.

Filed Date: 11/17/23.

Accession Number: 20231117-5144.

Comment Date: 5 p.m. ET 12/8/23.

Docket Numbers: ER24-436-000.

Applicants: PJM Interconnection, L.L.C.

Description: § 205(d) Rate Filing: Amendment to ISA, SA No. 5605; Queue No. AC1-222/AD1-055 (amend) to be effective 1/17/2024.

Filed Date: 11/17/23.

Accession Number: 20231117-5152.

Comment Date: 5 p.m. ET 12/8/23.

Docket Numbers: ER24-437-000.

Applicants: Midcontinent Independent System Operator, Inc., Ameren Services Company.

Description: § 205(d) Rate Filing: Midcontinent Independent System Operator, Inc. submits tariff filing per 35.13(a)(2)(iii: 2023-11-17_SA 2037 Ameren-Wabash Valley (Citizens) 5th Rev WDS Agreement to be effective 12/1/2023.

Filed Date: 11/17/23.

Accession Number: 20231117-5156.

Comment Date: 5 p.m. ET 12/8/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 17, 2023.
Debbie-Anne A. Reese,
Deputy Secretary.

[FR Doc. 2023-25971 Filed 11-22-23; 8:45 am]

BILLING CODE 6717-01-P